DEPARTMENT OF HOMELAND SECURITY

Coast Guard

[Docket No. USCG-2013-0605]

Towing Safety Advisory Committee

AGENCY: Coast Guard, DHS.

ACTION: Committee Management; Notice of Federal Advisory Committee Meeting.

SUMMARY: The Towing Safety Advisory Committee (TSAC) and its subcommittees will meet on September 4 through 6, 2013, in Chicago, Illinois to discuss issues related to shallow draft inland, coastal waterway navigation and towing safety. The meetings will be open to the public.

DATES: TSAC subcommittees will meet Wednesday, September 4, 2013, from 10 a.m. to 5 p.m. The full TSAC committee will meet Thursday, September 5, 2013, from 8 a.m. to 5 p.m. and on Friday, September 6, 2013, from 8 a.m. to 12 noon. Please note that the meeting may close early if the committee has completed its business.

All submitted written materials, comments, and requests to make presentations at the meetings should reach Mr. William J. Abernathy, Alternate Designated Federal Officer (ADFO) for TSAC by August 28, 2013. For contact information, please see the FOR FURTHER INFORMATION CONTACT section below. Any written material submitted by the public will be distributed to the Committee and become part of the public record.

ADDRESSES: All meetings will be held on the third floor at the Robert G. Metcalfe Federal Building, 77 West Jackson Boulevard, Chicago, Illinois 60604. Though the building is a public facility, all attendees will be required to provide government-issued picture identification card in order to gain admittance to the facility. Also, individuals and their belongings will be subject to screening at the point of entry.

For information on facilities or services for individuals with disabilities or to request special assistance at the meeting, contact Mr. William J. Abernathy.

To facilitate public participation, we are inviting public comment on the issues to be discussed by the committee as listed in the “Agenda” section below. Comments must be submitted in writing no later than August 28, 2013, and must be identified by [Docket No. USCG-2013-0605] and may be submitted by one of the following methods:

• Federal eRulemaking Portal: http://www.regulations.gov. Follow the instructions for submitting comments. (Preferred method to avoid delays in processing.)

• Fax: 202-493-2252

• Mail: Docket Management Facility (M-30), U.S. Department of Transportation, West Building Ground Floor, Room W12-140, 1200 New Jersey Avenue SE., Washington, DC 20590-0001.

• Hand Delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: This notice, and documents or comments related to it, may be viewed in our online docket, USCG-2013-0605 at http://www.regulations.gov. The following link will take you directly to the docket: http://www.regulations.gov/#!docketDetail;D=USCG-2013-0605.

A separate public comment period will be offered following the planned agenda. Public comments will be limited to three minutes per speaker. Please note that the public comment period may end before the time indicated following the last call for comments. Contact the individuals listed below to register as a speaker.

FOR FURTHER INFORMATION CONTACT: Commander Robert L. Smith Jr., Designated Federal Officer (DFO) of TSAC; U.S. Coast Guard Headquarters, Office of Operating and Environmental Standards (CG-OES-2); 2100 Second Street SW. STOP 7126; Washington, DC 20593-7126. Telephone (202) 272-1410, fax (202) 372-1926, or email at: Robert.L.Smith@uscg.mil or Mr. William J. Abernathy, ADFO TSAC; U.S. Coast Guard Headquarters, CG-OES-2; 2100 Second Street SW. STOP 7126; Washington, DC 20593-7126. Telephone (202) 372-1363, fax (202) 372-1926, or email at: William.J.Abernathy@uscg.mil.

If you have any questions on viewing or submitting material to the docket, call Barbara Hairston, Program Manager, Docket Operations, telephone 202-366-9826.

SUPPLEMENTARY INFORMATION: Notice of this meeting is given under the Federal Advisory Committee Act, 5 U.S.C. App. (Pub. L. 92-463).

TSAC is an advisory committee established by statute. See 33 U.S.C. 1231a. The Committee acts solely in an advisory capacity to the Secretary of the Department of Homeland Security (DHS) through the Commandant of the Coast Guard and the Deputy Commandant for Operations on matters relating to shallow-draft inland and coastal waterway navigation and towing safety. TSAC will advise, consult with, and make recommendations reflecting the Committee's independent judgment to the Secretary on matters and actions concerning shallow-draft inland and coastal waterway navigation and towing safety.

Agenda

TSAC Subcommittee Meetings

The following subcommittees will meet on September 4, 2013, to address:

• TASK 12-03, “Recommendations for the Enhancement of Towing Vessel Operational Stability.”

• TASK 12-05, “Recommendations to Improve Operational, Structural or Other Standards to Enhance Fire Prevention and Containment Aboard Towing Vessels.”

• TASK 13-01, “Recommendations for the Improvement of Automatic Identification System Encoding for Towing Vessels.”

• TASK 13-02, “Recommendations Regarding Manning of Inspected Towing Vessels.”

• TASK 13-03, “Recommendations to Create Standardized Terminology for the Towing Industry.”

Further information on the active Task Statements is located on the TSAC Homeport site at the following address: https://homeport.uscg.mil/TSAC.

TSAC Meeting Agenda

1. Introductions and opening remarks.

2. Updates and reports from subcommittees scheduled to meet September 4, 2013. The committee will review the information presented on each issue, deliberate on any recommendations presented in the subcommittees' reports, and formulate recommendations for the Department's consideration.

3. TSAC will receive tasking from the DFO for the following issues:

a. Task Statement on “Recommendations for Facility Permitting and Construction so as to Not Impede Commercial Vessel Navigation.”

b. Task Statement on “Recommendations for Designation of Narrow Channels.”

c. Task Statement on “Recommendations for the Repair, Maintenance, and Utilization of Towing Gear.”

d. Task Statement on “Recommendations regarding the American Waterways Operators' Report on Steel Hull Repair for Towing Vessels.”

e. Task Statement on “Recommendations for Requirements Related to Use of Liquefied Natural Gas as a Marine Fuel.”

f. Task Statement concerning the “Recommendations for the Improvement of Marine Casualty Reporting.”

g. Task Statement on “Recommendation to Establish Criteria for Identification of Air Draft for Vessels and Towed Vessels.”

4. Presentations on the following items of interest:

a. Final National Pollutant Discharge Elimination System General Permit for Discharges Incidental to the Normal Operation of a Vessel—NPDES Vessel General Permit (VGP) (78 FR 21938, April 12, 2013).

b. Case Study on Towing Vessel Safety by the Towing Vessel—National Center of Expertise.

c. Presentation on Towing Vessel Electronic Charting Navigation Safety.

d. Update on Towing Vessel Mariner Credentialing Policy Issues

e. Waterways Analysis and Management System (WAMS) for reviewing a waterway's Aid to Navigation system and Ports and Waterways Safety Assessment (PAWSA); tools for assessing and controlling risks in local waterways and to support safe marine navigation and the effective and efficient flow of waterborne commerce.

5. Public comment period.

Dated: August 08, 2013.
J.G. Lantz,
Director of Commercial Regulations and Standards.

[FR Doc. 2013-19679 Filed 8-13-13; 8:45 am]

BILLING CODE 9110-04-P